DEPARTMENT OF TRANSPORTATION

Federal Aviation Administration

[Summary Notice No. PE-2005-62]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, John Linsenmeyer (202) 267-5174 or Shanna Harvey (202) 493-4657, Office of Rulemaking (ARM-1), Federal Aviation Administration, 800 Independence Avenue, SW., Washington, DC 20591.

This notice is published pursuant to 14 CFR 11.85 and 11.91.

Issued in Washington, DC, on November 25, 2005.
Anthony F. Fazio,
Director, Office of Rulemaking.

Disposition of Petitions

Docket No.: FAA-2003-14987.

Petitioner: Island Air, Inc. d.b.a. Island Air.

Sections of 14 CFR Affected: 14 CFR 135.143(c)(2).

Description of Relief Sought/Disposition: To allow Island Air, Inc., d.b.a. Island Air to operate certain aircraft under part 135 without a TSO-C112 (Mode S) transponder installed on those aircraft.

Grant, 09/29/2005, Exemption No. 8070A.

Docket No.: FAA-2001-10165.

Petitioner: The North Jersey Chapter of the Ninety-Nines, Inc.

Sections of 14 CFR Affected: 14 CFR 135.251, 135.255, and 135.353 and appendices I and J to part 121.

Description of Relief Sought/Disposition: To allow the North Jersey Chapter of the Ninety-Nines, Inc., to conduct local sightseeing flights at the Blairstown Airport, Blairstown, New Jersey, on October 1 and 2, 2005, for compensation or hire, without complying with certain anti-drug and alcohol misuse prevention requirements of part 135.

Grant, 09/27/2005, Exemption No. 8641.

Docket No.: FAA-2005-22532.

Petitioner: Call Air.

Sections of 14 CFR Affected: 14 CFR 135.143(c)(2).

Description of Relief Sought/Disposition: To allow Call Air to operate certain aircraft under part 135 without a TSO-C112 (Mode S) transponder installed in the aircraft.

Grant, 09/22/2005, Exemption No. 8638.

Docket No.: FAA-2003-16435.

Petitioner: Quest Aviation, Inc.

Sections of 14 CFR Affected: 14 CFR 135.143 (c)(2).

Description of Relief Sought/Disposition: To allow Quest Aviation, Inc., to operate certain aircraft under part 135 without a TSO-C112 (Mode S) transponder installed on those aircraft.

Grant, 09/22/2005, Exemption No. 8172A.

Docket No.: FAA-2002-14094.

Petitioner: Rogerson ATS.

Sections of 14 CFR Affected: 14 CFR § SFAR No. 88 of Title 14.

Description of Relief Sought/Disposition: To allow Rogerson ATS to substantially meet the intent of SFAR No. 88 without conducting a safety review of the airplane fuel tank system, as required by SFAR No. 88.

Partial Grant, 09/16/2005, Exemption No. 8619.

Docket No.: FAA-2004-19861.

Petitioner: Embraer Empresa Brasileira Aeronautica S.A.

Sections of 14 CFR Affected: 14 CFR 25.901(c).

Description of Relief Sought/Disposition: To allow type certification of certain Embraer Model ERJ 190 airplanes when those airplanes do not meet the “no single failure” criterion of § 25.901(c) of Title 14, Code of Federal Regulations (14CFR), as it relates to “uncontrollable high thrust failure conditions.”

Partial Grant, 08/25/2005, Exemption No. 8613.

Docket No.: FAA-2003-16532.

Petitioner: Avigate Air.

Sections of 14 CFR Affected: 14 CFR 135.143(c)(2).

Description of Relief Sought/Disposition: To allow Avigate Air to operate certain aircraft under part 135 without a TSO-C112 (Mode S) transponder installed on those aircraft.

Grant, 09/19/2005, Exemption No. 8179A.

Docket No.: FAA-2005-22220.

Petitioner: AVMC, Inc. d.b.a WT Air.

Sections of 14 CFR Affected: 14 CFR 135.143(c)(2).

Description of Relief Sought/Disposition: To allow AVMC, Inc., d.b.a. WT Air to operate certain aircraft under part 135 without a TSO-C112 (Mode S) transponder installed in the aircraft.

Grant, 09/19/2005, Exemption No. 8637.

Docket No.: FAA-2003-16412.

Petitioner: Richland Aviation.

Sections of 14 CFR Affected: 14 CFR 135.143(c)(2).

Description of Relief Sought/Disposition: To allow Richland Aviation to operate certain aircraft under part 135 without a TSO-C112 (Mode S) transponder installed in those aircraft.

Grant, 09/19/2005, Exemption No. 8169A.

Docket No.: FAA-2003-16344.

Petitioner: Sky Care.

Sections of 14 CFR Affected: 14 CFR 135.143(c)(2).

Description of Relief Sought/Disposition: To allow Sky Care to operate certain aircraft under part 135 without a TSO-C112 (Mode S) transponder installed in those aircraft.

Grant, 09/19/2005, Exemption No. 8165A.

Docket No.: FAA-2005-22227.

Petitioner: Ameristar Air Cargo, Inc.

Sections of 14 CFR Affected: 14 CFR 121.434(c)(1)(ii).

Description of Relief Sought/Disposition: To allow Ameristar Air Cargo, Inc., to substitute a qualified pilot in command (PIC) while that PIC is performing prescribed duties during at least one flight leg that includes a takeoff and a landing when completing initial or upgrade training.

Grant, 09/15/2005, Exemption No. 8636.

Docket No.: FAA-2005-22192.

Petitioner: Amerijet International, Inc.

Sections of 14 CFR Affected: 14 CFR 121.434(c)(1)(ii).

Description of Relief Sought/Disposition: To allow Ameristar Air Cargo, Inc., to substitute a qualified pilot in command (PIC) while that PIC is performing prescribed duties during at least one flight leg that includes a takeoff and a landing when completing initial or upgrade training.

Grant, 09/15/2005, Exemption No. 8635.

Docket No.: FAA-2001-11025.

Petitioner: Miller Aviation.

Sections of 14 CFR Affected: 14 CFR 135.143(c)(2).

Description of Relief Sought/Disposition: To allow Miller Aviation to operate certain aircraft under part 135 without a TSO-C112 (Mode S) transponder installed on those aircraft.

Grant, 09/15/2005, Exemption No. 7663B.

Docket No.: FAA-2005-22333.

Petitioner: Yukon Air Service, Inc.

Sections of 14 CFR Affected: 14 CFR 135.143(c)(2).

Description of Relief Sought/Disposition: To allow Yukon Air Service, Inc., to operate certain aircraft under part 135 without a TSO-C112 (Mode S) transponder installed on those aircraft.

Grant, 09/15/2005, Exemption No. 8634.

Docket No.: FAA-2005-22239.

Petitioner: Mauiscape Helicopters, Inc.

Sections of 14 CFR Affected: 14 CFR 135.143(c)(2).

Description of Relief Sought/Disposition: To allow Mauiscape Helicopters, Inc., to operate certain aircraft under part 135 without a TSO-C112 (Mode S) transponder installed in the aircraft.

Grant, 09/15/2005, Exemption No. 8633.

Docket No.: FAA-2002-13316.

Petitioner: Monterey Bay Ninety-Nines.

Sections of 14 CFR Affected: 14 CFR 135.251, 135.255, and 135.353.

Description of Relief Sought/Disposition: To allow the Monterey Bay Ninety-Nines to conduct local sightseeing flights at the Watsonville Municipal Airport, Watsonville, California, on October 29, 2005, for compensation or hire, without complying with certain anti-drug and alcohol misuse prevention requirements of part 135.

Grant, 09/14/2005, Exemption No. 8632.

Docket No.: FAA-2004-17410.

Petitioner: Stuart Air Show.

Sections of 14 CFR Affected: 14 CFR 135.251, 135.255, and 135.353.

Description of Relief Sought/Disposition: To allow Stuart Air Show to conduct local sightseeing flights at the Martin County Airport, Stuart, Florida, for the Stuart Air Show on or about November 12 and 13, 2005, for compensation or hire, without complying with certain anti-drug and alcohol misuse prevention requirements of part 135.

Grant, 09/14/2005, Exemption No. 8631.

Docket No.: FAA-2002-12010.

Petitioner: Taunton Airport Association, Inc.

Sections of 14 CFR Affected: 14 CFR 135.251, 135.255, and 135.353.

Description of Relief Sought/Disposition: To allow Taunton Airport Association, Inc., to conduct local sightseeing flights to benefit local charities at the Taunton Municipal Airport, East Taunton, Massachusetts, on October 22, 2005, with a rain date of October 23, 2005, for compensation or hire, without complying with certain anti-drug and alcohol misuse prevention requirements of part 135.

Grant, 9/14/2005, Exemption No. 8630.

Docket No.: FAA-2001-10289.

Petitioner: EVA Airways Corporation.

Sections of 14 CFR Affected: 14 CFR 61.77(a) and (b) and 63.23(a).

Description of Relief Sought/Disposition: To allow the issuance of U.S. special purpose pilot authorizations and U.S. special purpose flight engineer certificated to airmen employed by EVA Airways Corporation without those airmen meeting the requirement to hold a current foreign certificate or license issued by a foreign contracting State to the Convention on International Civil Aviation.

Grant, 09/09/2005, Exemption No. 6689E.

Docket No.: FAA-2001-10223.

Petitioner: Kapowsin Air Sports, Ltd.

Sections of 14 CFR Affected: 14 CFR 105.29.

Description of Relief Sought/Disposition: To allow Kapowsin Air Sports, Ltd., to conduct parachute operations within a 2-mile radius of Kapowsin Field when published cloud clearances cannot be maintained.

Denial, 09/06/2005, Exemption No. 8627.

Docket No.: FAA-2005-22231.

Petitioner: Save-A-Connie, Inc.

Sections of 14 CFR Affected: 14 CFR 91.315.

Description of Relief Sought/Disposition: To allow Save-A-Connie, Inc., to carry its members and sponsors on local demonstration or promotional flights for compensation or hire in its Lockheed L-1049 Super Constellation and Martin 4-0-4 airplanes.

Denial, 09/06/2005, Exemption No. 8628.

Docket No.: FAA-2001-9142.

Petitioner: Honeywell Aerospace.

Sections of 14 CFR Affected: 14 CFR 21.325(b)(3).

Description of Relief Sought/Disposition: To allow Honeywell Aerospace to issue export airworthiness approval tags for class II and class III products manufactured at Honeywell's Singapore facility.

Grant, 09/01/2005, Exemption No. 7075D.

[FR Doc. E5-6798 Filed 12-2-05; 8:45 am]

BILLING CODE 4910-13-P